DEPARTMENT OF HEALTH AND HUMAN SERVICES

Centers for Medicare & Medicaid Services

42 CFR Parts 405, 424, 455, and 457

[CMS-6058-RCN]

RIN 0938-AS84

Medicare, Medicaid, and Children's Health Insurance Programs; Program Integrity Enhancements to the Provider Enrollment Process; Extension of Timeline for Publication of the Final Rule

AGENCY: Centers for Medicare & Medicaid Services (CMS), HHS.

ACTION: Extension of timeline for publication of a final rule.

SUMMARY: This document announces the extension of the timeline for publication of the “Medicare, Medicaid, and Children's Health Insurance Programs; Program Integrity Enhancements to the Provider Enrollment Process” final rule. We are issuing this document in accordance with the Social Security Act (the Act), which requires notice to be provided in the Federal Register if there are exceptional circumstances that cause us to publish a final rule more than 3 years after the publication date of the proposed rule. In this case, the complexity of the rule and the scope of the comments received warrant the extension of the timeline for publication.

DATES: The timeline for publication of the final is extended for 1 year, until March 1, 2020.

FOR FURTHER INFORMATION CONTACT: Frank Whelan, (410) 786-1302.

SUPPLEMENTARY INFORMATION: In the March 1, 2016 Federal Register (81 FR 10720), we published a proposed rule titled “Medicare, Medicaid, and Children's Health Insurance Programs; Program Integrity Enhancements to the Provider Enrollment Process” that would implement sections of the Affordable Care Act that require Medicare, Medicaid, and Children's Health Insurance Program (CHIP) providers and suppliers to disclose certain current and previous affiliations with other providers and suppliers. This proposed rule would also provide us with additional authority to deny or revoke a provider's or supplier's Medicare enrollment. These and other important provisions in the proposed rule would: (1) Eliminate significant program integrity loopholes of long-standing concern to CMS and the Department; and (2) help halt and deter ongoing fraudulent and abusive behavior, including patient harm, in Medicare, Medicaid, and CHIP.

Section 1871(a)(3)(A) of the Act requires the Secretary of the Department of Health and Human Services, in consultation with the Director of the Office of Management and Budget (OMB), to establish a regular timeline for the publication of a final rule based on the previous publication of a proposed rule or an interim final rule. Section 1871(a)(3)(B) of the Act allows the timeline for publishing Medicare final regulations to vary based on the complexity of the regulation, the number and scope of comments received, and other related factors. The timeline for publishing the final rule, however, cannot exceed 3 years from the date of publishing the proposed regulation unless there are exceptional circumstances. The Secretary may extend the initial targeted publication date of the final rule if the Secretary provides public notice thereof, including a brief explanation of the justification for the variation, no later than the rule's previously established proposed publication date.

After consultation with the Director of OMB, the Department, through CMS, published a notice in the December 30, 2004 Federal Register (69 FR 78442) establishing a general 3-year timeline for publishing Medicare final rules after the publication of a proposed or interim final rule. Consistent with this, the final rule for the March 1, 2016 proposed rule was to be published by March 1, 2019.

This document announces an extension of the timeline for publication of the final rule due to exceptional circumstances. Based on both the public comments received and internal stakeholder feedback, we have determined that more time is needed to address and resolve certain complex policy and operational issues that the commenters and stakeholders raised. We stress that our decision in this matter to extend the timeline for issuing a final rule should not be viewed as a diminution of the Department's commitment to timely and effective rulemaking. Our goal remains to publish, as expeditiously as feasible, a final rule that strengthens our program integrity efforts while minimizing the burden on providers and suppliers to the maximum possible extent. At this time, we believe we can best achieve this balance by issuing this continuation document.

Therefore, this document extends the timeline for publication of the final rule for 1 year, until March 1, 2020.

Dated: February 25, 2019.
Ann C. Agnew,
Executive Secretary to the Department, Department of Health and Human Services.

[FR Doc. 2019-03697 Filed 2-27-19; 8:45 am]

BILLING CODE 4120-01-P